DEPARTMENT OF AGRICULTURE

Forest Service

Notice of Intent To Prepare an Environmental Impact Statement (EIS) for Missionary Ridge Burned Area Timber Salvage and Public Scoping; San Juan National Forest, CO

AGENCY: Forest Service, USDA/

ACTION: Notice of intent to prepare an Environmental Impact Statement (EIS) and conduct public scoping; San Juan National Forest, Colorado.

SUMMARY: In accordance with the National Environmental Policy Act, notice is hereby given that the U.S. Forest Service (USFS), is initiating the preparation of an Environmental Impact Statement (EIS) with associated public scoping, on the proposed salvage of fire killed timber from the Missionary Ridge burn area. The EIS analysis area (70,000 acres) encompasses national forest land within the area generally described as the Missionary Ridge burn area. This area of national forest burned during June and July 2002. The burn area is located north of Durango, CO and is bounded on the west side by State Highway 550 and encompasses lands located on Missionary Ridge, and further to the east, lands surrounding Lemon and Vallicito Reservoirs. The proposed action is to salvage some of the timber burned by the Missionary Ridge Fire. The EIS will address environmental impacts and mitigation measures associated with harvesting and removal of dead timber from various units within the burn area.

DATES: Written comments will be accepted until October 25, 2002. Two public scoping meetings will be held, one beginning at 4 p.m. on October 8, 2002 at the BLM/USFS Public Lands Center, Durango, Colorado and the other beginning at 5 p.m. on October 9, 2002 at the Bayfield High School, in Bayfield, Colorado.

ADDRESSES: Comments should be sent to the San Juan National Forest, Attn: Dave Dallison, 15 Burnett Court, Durango, Colorado 81301.

FOR FURTHER INFORMATION CONTACT: Ave Dallison or Jim Powers, (970) 247-4874.

SUPPLEMENTARY INFORMATION: The objective of the EIS will be to assess timber salvage opportunities and impacts within the described Missionary Ridge burn area of southwestern Colorado. The proposed action potentially impacts various natural and human resources including, forested ecosystems, water resources, biological resources (e.g., threatened and endangered species), wildlife, cultural resources, visual quality, the socioeconomic environment and others that are identified through the scoping process.

The proposed action involves recovering a portion of timber that will be lost through burn mortality, and removing insect infested trees to suppress post fire insect damage to live trees. An estimated 400 million board feet of timber was killed within the 70,000-acre burn area. We anticipate analyzing alternatives that will involve salvaging timber from 6,000 to 15,000 acres. All areas considered for salvage harvest are roaded. The alternatives will examine harvesting using ground based skidding equipment and ground based equipment in combination with skyline and helicopter logging systems. One alternative will examine harvesting within the roaded portion to the 50,000-acre Florida River Roadless Area. There are 3,700 acres that are roaded and previously harvested within the Florida River RARE II boundaries.

It is anticipated that the EIS process will take eight months to complete and will include public information and meetings. We anticipate publishing the Record of Decision in May 2003. Public information, scoping meetings, and request for input on the EIS will begin with publication of this notice. Written comments must be submitted on or before October 25, 2002.

The Deciding Official will be the Regional Forester, USDA Forest Service—Rocky Mountain Region, P.O. Box 25127, Lakewood CO 80225.

We except to publish a draft environmental impact statement in early 2003, to ask for public comment on the draft material for a period of 45 days, and to complete a final environmental impact statement in May 2003.

The 45 day public comment period on the draft environmental impact statement will commence on the day the Environmental Protection Agency publishes a “Notice of Availability” in the Federal Register.

The Forest Service believes it is important to give reviewers notice at this early stage of several court rulings related to public participation in the environmental review process. First, reviewers of draft environmental impact statements must structure their participation in the environmental review of the proposal so that it is meaningful and alerts an agency to the reviewer's position and contentions. Vermont Yankee Nuclear Power Corp.v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heitgages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. (Reviewers may wish to refer to the Council on Environmental Quality Regulations for implementing the procedural provisions of the National Environmental Policy Act at 40 CFR 1503.3 in addressing these points.) Please note that comments you make on the draft environmental impact statement will be regarded as public information.

Dated: September 25, 2002.
Rick Brazell,
Acting Forest Supervisor, San Juan National Forest, USFS, Colorado.

[FR Doc. 02-24413 Filed 9-25-02; 8:45 am]

BILLING CODE 3410-BS-M